DEPARTMENT OF HEALTH AND HUMAN SERVICES

Health Resources and Services Administration

Agency Information Collection Activities: Proposed Collection: Public Comment Request; Information Collection Request Title: Children's Hospitals Graduate Medical Education Payment Program, OMB No. 0915-0247, Extension

AGENCY: Health Resources and Services Administration (HRSA), Department of Health and Human Services.

ACTION: Notice.

SUMMARY: In compliance with the requirement of the Paperwork Reduction Act of 1995 for opportunity for public comment on proposed data collection projects, HRSA announces plans to submit an Information Collection Request (ICR), described below, to the Office of Management and Budget (OMB). Prior to submitting the ICR to OMB, HRSA seeks comments from the public regarding the burden estimate, below, or any other aspect of the ICR.

DATES: Comments on this ICR should be received no later than September 9, 2019.

ADDRESSES: Submit your comments to paperwork@hrsa.gov or mail them to HRSA Information Collection Clearance Officer, Room 14N136B, 5600 Fishers Lane, Rockville, Maryland 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the ICR title for reference.

Information Collection Request Title: Children's Hospitals Graduate Medical Education Payment Program, OMB No. 0915-0247, Extension.

Abstract: In 1999, the Children's Hospitals Graduate Medical Education (CHGME) Payment Program was enacted by Public Law 106-129 and most recently amended by the Dr. Benjy Frances Brooks Children's Hospitals Graduate Medical Education (GME) Support Reauthorization Act of 2018 (Pub. L. 115-241). The purpose of this program is to fund freestanding children's hospitals to support the training of pediatric and other residents in GME programs. The legislation indicates that eligible children's hospitals will receive payments for both direct and indirect medical education. Direct payments are designed to offset the expenses associated with operating approved graduate medical residency training programs; indirect payments are designed to compensate hospitals for expenses associated with the treatment of more severely ill patients and the additional costs relating to teaching residents in such programs.

Need and Proposed Use of the Information: Data based on the number of full-time equivalent (FTE) residents in applicant children's hospital training programs to determine the amount of direct and indirect medical education payments to be distributed to participating children's hospitals. Indirect medical education payments will be derived from a formula that requires the reporting of discharges, beds, and case mix index information from participating children's hospitals.

HRSA will not collect any additional information on these forms. The previously approved information collection included 25 separate forms; this request includes 29 separate forms. Previously, the four additional forms were combined. Specifically:

• HRSA 99-2 is now HRSA 99-2 (Initial) and HRSA 99-2 (Reconciliation);

• Exhibit 2 (Initial, Resident FTE Assessment, Reconciliation) is now Exhibit 2 (Initial and Reconciliation) and Exhibit 2 (FTE Resident Assessment);

• Exhibit 3 (Initial, Resident FTE Assessment, Reconciliation) is now Exhibit 3 (Initial and Reconciliation) and Exhibit 3 (FTE Resident Assessment); and

• Exhibit 4 (Initial, Resident FTE Assessment, Reconciliation) is now Exhibit 4 (Initial and Reconciliation) and Exhibit 4 (FTE Resident Assessment).

Hospitals will be requested to submit data on the number of resident FTEs trained during the federal fiscal year to participate in the reconciliation payment process. Auditors will be requested to submit data on the number of resident FTEs trained by the hospitals in a resident FTE assessment summary. An assessment of the hospital data ensures that appropriate Medicare regulations and CHGME Payment Program guidelines are followed in determining which residents are eligible to be claimed for funding. The audit results affect final payments made by the CHGME Payment Program to all eligible children's hospitals.

Likely Respondents: Hospitals applying for and receiving CHGME funds and fiscal intermediaries auditing data submitted by the hospitals receiving CHGME funds.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Application Cover Letter (Initial and Reconciliation) | 60 | 2 | 120 | 0.33 | 39.6
HRSA 99 (Initial and Reconciliation) | 60 | 2 | 120 | 0.33 | 39.6
HRSA 99-1 (Initial) | 60 | 1 | 60 | 26.50 | 1,590.0
HRSA 99-1 (Reconciliation) | 60 | 1 | 60 | 6.50 | 390.0
HRSA 99-1 (Supplemental) (FTE Resident Assessment) | 30 | 2 | 60 | 3.67 | 220.2
HRSA 99-2 (Initial) | 60 | 1 | 60 | 11.33 | 679.8
HRSA 99-2 (Reconciliation) | 60 | 1 | 60 | 3.67 | 220.2
HRSA 99-4 (Reconciliation) | 60 | 1 | 60 | 12.50 | 750.0
HRSA 99-5 (Initial and Reconciliation) | 60 | 2 | 120 | 0.33 | 39.6
CFO Form Letter (Initial and Reconciliation) | 60 | 2 | 120 | 0.33 | 39.6
Exhibit 2 (Initial and Reconciliation) | 60 | 2 | 120 | 0.33 | 39.6
Exhibit 3 (Initial and Reconciliation) | 60 | 2 | 120 | 0.33 | 39.6
Exhibit 4 (Initial and Reconciliation) | 60 | 2 | 120 | 0.33 | 39.6
FTE Resident Assessment Cover Letter (FTE Resident Assessment) | 30 | 2 | 60 | 0.33 | 19.8
Conversation Record (FTE Resident Assessment) | 30 | 2 | 60 | 3.67 | 220.2
Exhibit C (FTE Resident Assessment) | 30 | 2 | 60 | 3.67 | 220.2
Exhibit F (FTE Resident Assessment) | 30 | 2 | 60 | 3.67 | 220.2
Exhibit N (FTE Resident Assessment) | 30 | 2 | 60 | 3.67 | 220.2
Exhibit O(1) (FTE Resident Assessment) | 30 | 2 | 60 | 3.67 | 220.2
Exhibit O(2) (FTE Resident Assessment) | 30 | 2 | 60 | 26.5 | 1,590.0
Exhibit P (FTE Resident Assessment) | 30 | 2 | 60 | 3.67 | 220.2
Exhibit P(2) (FTE Resident Assessment) | 30 | 2 | 60 | 3.67 | 220.2
Exhibit S (FTE Resident Assessment) | 30 | 2 | 60 | 3.67 | 220.2
Exhibit T (FTE Resident Assessment) | 30 | 2 | 60 | 3.67 | 220.2
Exhibit T(1) (FTE Resident Assessment) | 30 | 2 | 60 | 3.67 | 220.2
Exhibit 1 (FTE Resident Assessment) | 30 | 2 | 60 | 0.33 | 19.8
Exhibit 2 (FTE Resident Assessment) | 30 | 2 | 60 | 0.33 | 19.8
Exhibit 3 (FTE Resident Assessment) | 30 | 2 | 60 | 0.33 | 19.8
Exhibit 4 (FTE Resident Assessment) | 30 | 2 | 60 | 0.33 | 19.8
Total | * 90 |  | * 90 |  | 8,018.40
* The total is 90 because the same hospitals and auditors are completing the forms.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Division of the Executive Secretariat.

[FR Doc. 2019-14752 Filed 7-10-19; 8:45 am]

BILLING CODE 4165-15-P